DEPARTMENT OF JUSTICE

Federal Bureau of Investigation

Agency Information Collection Activities: Proposed Collection: Comment Request

ACTION: 30-day notice of information collection under review: Extension of a currently approved collection; application for employment/Federal Bureau of Investigation.

The Department of Justice (DOJ), Federal Bureau of Investigation, has submitted the following information collection request to the Office of Management and Budget (OMB) for review and approval in accordance with the Paperwork Reduction Act of 1995. The proposed information collection is published to obtain comments from the public and affected agencies. This proposed information collection was previously published in the Federal Register on February 6, 2002, Volume 67, Number 25, Pages 5617-5618, allowing for a 60-day comment period.

The purpose of this notice is to allow for an additional 30 days for public comment until May 20, 2002. This process is conducted in accordance with 5 CFR 1320.10. Written comments and/or suggestions regarding the items contained in this notice, especially regarding the estimated public burden and associated response time, should be directed to Office of Management, Office of Regulatory Affairs, Attention: Department of Justice Desk Officer, Washington, DC 20530. Comments may also be submitted to the Department of Justice (DOJ), Justice Management Division, Information Management and Security Staff, Attention: Department Clearance Officer, Suite 1600, 601 D Street, NW, Washington, DC, 20530. Written comments and suggestions from the public and affected agencies are encouraged. Your comments should address one or more of the following points:

(1) Evaluate whether the proposed collection of information is necessary for the proper performance of the functions of the agency, including whether the information will have practical utility;

(2) Evaluate the accuracy of the agency's estimate of the burden of the proposed collection of information, including the validity of the methodology and the assumptions used;

(3) Enhance the quality, utility, and clarity of the information to be collected; and

(4) Evaluate whether the data collection instrument will minimize the burden of the collection of information on those who are to respond, including the use of appropriate automated, electronic, mechanical, or other technological collection techniques of other forms of information technology, e.g., permitting electronic submission of responses.

Overview of this information collection:

(1) Type of information collection: Extension of a Currently Approved Collection.

(2) The title of the Form/Collection. Application for Employment/Federal Bureau of Investigation.

(3) The agency form number, if any, and the applicable component of the Department sponsoring the collection: Form Number: FD-140. Application Component: Federal Bureau of Investigation, Department of Justice.

(4) Affected public who will be asked or required to respond, as well as a brief abstract. Primary: Individuals and households. Other: None. Abstract: The FD-140, Application for Employment, is utilized to collect pertinent background information on all applicants for FBI positions. The FD-140 is issued in lieu of Standard Form 86, Questionnaire for National Security Positions, to address suitability and security concerns beyond the scope of the SF-86. Furthermore, the FD-406, Authority to Release Information, it also incorporated into the FD-140 in order for the FBI to obtain necessary records.

(5) An estimate of the total number of respondents and the estimated amount of time for an average person to respond or reply: 50,000 respondents with the average response rate of 10 hours.

(6) An estimate of the total public burden (in hours) associated with the collection: 500,000 annual burden hours.

If additional information is required contact: Mr. Robert Briggs, Clearance Officer, United States Department of Justice, Information Management and Security Staff, Justice Management Division, Suite 1600, Patrick Henry Building, 601 D Street, NW, Washington, DC 20530.

Dated: April 15, 2002.
Robert B. Briggs,
Department Clearance Officer, Department of Justice.

[FR Doc. 02-9528 Filed 4-18-02; 8:45 am]

BILLING CODE 4410-02-M